DEPARTMENT OF THE INTERIOR

Bureau of Indian Affairs

25 CFR Part 292

RIN 1076-AE81

Gaming on Trust Lands Acquired After October 17, 1988; Correction

AGENCY: Bureau of Indian Affairs, Interior.

ACTION: Final rule; correction and stay of effective date.

SUMMARY: This document contains a correction to a final rule that was published May 20, 2008 (73 FR 29354). The regulation relates to gaming on trust lands acquired after October 17, 1988.

DATES: The effective date of this correction is June 24, 2008. In rule FR Document E8-11086 published on May 20, 2008 (73 FR 29353), the effective date of the rule is stayed until August 25, 2008.

FOR FURTHER INFORMATION CONTACT: Paula Hart, Acting Director, Office of Indian Gaming, (202) 219-4066.

SUPPLEMENTARY INFORMATION: The Bureau of Indian Affairs published on May 20, 2008, a final rule relating to gaming on trust lands acquired after October 17, 1988. The preamble to this rule contained an incorrect effective date, contained an error in the Small Business Regulatory Enforcement and Fairness Act statement in the SUPPLEMENTARY INFORMATION section, and omitted a sentence.

In rule FR Document E8-11086 published on May 20, 2008 (73 FR 29353), make the following corrections:

1. On page 29354, in the first column, the effective date is listed as June 19, 2008. This is stayed until August 25, 2008.

2. On page 29358, in the second column, under the heading “Section 292.3 When can a tribe conduct gaming activities on trust lands?” a sentence was omitted after the sentence that ends, “concerns whether a specific area of land is a reservation.” A new sentence should be added in this location to read, “Regardless of where the tribe sends its request for an Indian lands opinion, the Department will coordinate the completion of the request by the appropriate offices.”

3. On page 29374, in the third column, under the heading “Small Business Regulatory Enforcement and Fairness Act (SBREFA),” the first sentence reads, “This rule is not a major rule under 5 U.S.C. 804(2), the Small Business Regulatory Enforcement and Fairness Act.” This sentence should be corrected to read, “This rule is a major rule under 5 U.S.C. 804(2), the Small Business Regulatory Enforcement and Fairness Act.” In this same location, paragraph (a) incorrectly states that this rule, “Does not have an annual effect on the economy of $100 million or more.” This should be corrected to read, “Has an annual effect on the economy of $100 million or more.”

Dated: June 19, 2008.
George Skibine,
Acting Deputy Assistant Secretary for Policy and Economic Development—Indian Affairs.

[FR Doc. E8-14211 Filed 6-23-08; 8:45 am]

BILLING CODE 4310-4N-P